UNIFIED CARRIER REGISTRATION PLAN

Sunshine Act Meeting Notice; Unified Carrier Registration Plan Board of Directors Meeting

TIME AND DATE: December 5, 2019, from Noon to 3:00 p.m., Eastern time.

PLACE: This meeting will be accessible via conference call. Any interested person may call 1-866-210-1669, passcode 5253902# to participate in the meeting.

STATUS: This meeting will be open to the public.

MATTERS TO BE CONSIDERED: The Unified Carrier Registration Plan Board of Directors (the “Board”) will continue its work in developing and implementing the Unified Carrier Registration Plan and Agreement. The subject matter of the meeting will include:

Agenda

Open to the Public

I. Welcome and Call to Order—UCR Board Chair

The UCR Board Chair will welcome attendees, call the meeting to order, call roll for the Board, and facilitate self-introductions.

II. Verification of Meeting Notice—UCR Executive Director

The UCR Executive Director will verify the publication of the meeting notice on the UCR website and in the Federal Register.

III. Review and Approval of Board Agenda and Setting of Ground Rules—UCR Board Chair

For Discussion and Possible Action

Agenda will be reviewed and the Board will consider adoption.

Ground Rules

➢ Board action only to be taken in designated areas on agenda

➢ Please MUTE your phone

➢ Please do NOT place the call on HOLD

IV. Approval of Minutes of the October 17, 2019 UCR Board Meeting—UCR Executive Director

For Discussion and Possible Action

• Minutes of the October 17, 2019 Board meeting will be reviewed. The Board will consider action to approve.

V. Report of FMCSA—FMCSA Representative

FMCSA will provide a report on any relevant activity or rulemaking, including any pending appointments, as well as any update available regarding a final rulemaking on 2020 UCR fees.

VI. UCR/FMCSA Memorandum of Understanding—Chief Legal Officer

The Chief Legal Officer will report on the status of efforts to renew the UCR/FMCSA memorandum of understanding and answer questions.

VII. Proposed Written Information Security Policy—Chief Legal Officer

For Discussion and Possible Action

A revised draft of a proposed policy to ensure the security, confidentiality, integrity, and availability of personal and other sensitive information collected, created, used, and maintained by the UCR, will be reviewed. The Board may act to adopt the proposed policy.

VIII. Proposed Incident Response Action Plan—Chief Legal Officer

For Discussion and Possible Action

A revised draft of a proposed policy to provide a structured and systematic incident response process for all information security incidents that affect any of the UCR's information technology systems, network, or data, including the UCR's data held or IT services provided by third-party vendors or other service providers, will be reviewed. The Board may act to adopt the proposed policy.

IX. Data Event Update—Chief Legal Officer

The Chief Legal Officer will provide an update to the Board on the action items approved at its August 1, 2019 meeting related to the March 2019 data event.

X. Subcommittee Reports

Audit Subcommittee—Audit Subcommittee Chair

A. Report from States Delinquent on 2018 Carrier Audits

The UCR Board will hear from representatives in the two states that have not submitted an annual carrier audit report for the 2018 Registration Year as required by the UCR Agreement. These two states will address their reasons for being delinquent, as well as their corrective action plan, including timelines, for attaining compliance.

Idaho

Illinois

B. Reminder to State Auditors

Remind state auditors that they can collect UCR registrations for both 2018 and 2019 through December 31, 2019, as part of their active investigation. This applies to any of the following scenarios:

MCS-150 Retreats

FARs

If the audit indicates any of the following:

• Intrastate motor carriers with a current inspection with interstate activity.

• Intrastate motor carriers with an active MC number.

• Intrastate motor carriers with an accident in interstate commerce.

• Inactive interstate motor carriers with a current inspection.

C. Focused Anomaly Reviews (FARs)

• Currently states have closed approximately 55% of their FARs.

• DSL is assigning FARs as they are discovered, continue to monitor.

D. MCS-150 Retreats

• You must work these retreats through the National Registration System (NRS).

• The system assigns these retreats as they are discovered, continue to monitor.

E. Annual State Reports

• Currently, Section #19 of the Procedures Manual requires the states to perform their MCS-150 retreat audits in the NRS.

• FARs are in a separate database administered by the UCR Consultant and reviewed by the Audit Chair, these reports are monitored daily.

• Since there is no report to submit, we should update the Audit Procedures to simply have the state reports final on June 1st of each year.

Education and Training Subcommittee—Operations Manager and Executive Director

An update will be given to the Board regarding the development of three training modules, UCR 101, Enforcement, and the National Registration System.

XI. Updates Concerning UCR Legislation—UCR Board Chair

The UCR Board Chair will call for any updates regarding UCR Legislation since the last Board meeting.

XII. Proposed Board Subcommittee Policy—UCR Administrator

For Discussion and Possible Action

A revised draft of a proposed policy to establish criteria for individuals serving on UCR Board Subcommittees, as well as the composition of the Subcommittees, will be reviewed. The Board may act to adopt the proposed policy. The Board Chair will also list appointments made to leadership posts of various Subcommittees.

XIII. Possible Revisions to 2020 Budget—UCR Administrator

For Discussion and Possible Action

The Depository Manager will lead a discussion concerning the need for revisions to the budget for 2020. The Board may take action to adopt the suggested revisions to the budget.

XIV. Proposed Calendar for 2020 UCR Meetings—UCR Executive Director

For Discussion and Possible Action

The Board will review a revised calendar of proposed meetings (Board and Subcommittees) for 2020. The Board may act to adopt the calendar for 2020.

XV. Contractor Reports—UCR Executive Director

• UCR Executive Director

The Executive Director will provide a report covering recent activity for the UCR Program.

• UCR Administrator (Kellen)

The UCR Administrator will provide their management report covering recent activity for the Depository, Operations, and Communications.

• DSL Transportation Services, Inc.

DSL will report on the latest data on state collections based on reporting from the Focused Anomalies Review (FARs) program.

• Seikosoft

Seikosoft will provide an update on recent/new activity related to the National Registration System.

XVI. Other Business—UCR Board Chair

The UCR Board Chair will call for any business, old or new, from the floor.

XVII. Adjournment—UCR Board Chair

The UCR Board Chair will adjourn the meeting.

This agenda will be available no later than 5:00 p.m. Eastern time, November 25, 2019 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2019-25790 Filed 11-22-19; 4:15 pm]

BILLING CODE 4910-YL-P